DEPARTMENT OF AGRICULTURE

Forest Service

Notice of Modoc County RAC Meetings

SUMMARY: Pursuant to the authorities in the Federal Advisory Committee Act (Pub. L. 92-463) and under the Secure Rural Schools and Community Self-Determination Act of 2000 (Pub. L. 106-393), the Modoc National Forest's Modoc County Resource Advisory Committee will go on a field trip Monday, July 14, on the Warner Mountain Ranger District.

The Modoc County Resource Advisory Committee will hold a business meeting on Monday, July 21, in the Forest Supervisors' Office in Alturas, California from 6 to 8 pm. The field trip and business meeting are open to the public.

SUPPLEMENTARY INFORMATION: The field trip will visit actual and proposed project sites on the Warner Mountain Ranger District. The business meeting July 21, begins at 6 p.m., at the Modoc National Forest Office, Conference Room, 800 West 12th St., Alturas. Agenda topics will include approval of the June 9 minutes, consideration of new projects 2004, and discuss community outreach for projects for fiscal year 2004 that will improve the maintenance of existing infrastructure, implement stewardship objectives that enhance forest ecosystems, provide economic benefits and restore and improve health and water quality that meet the intent of Public Law 106-393. Time will also be set aside for public comments at the beginning of the meeting.

FOR FURTHER INFORMATION CONTACT: Forest Supervisor Stan Sylva, at (530) 233-8700; or Public Affairs Officer Nancy Gardner at (530) 233-8713.

Nancy Gardner,
Acting Forest Supervisor.

[FR Doc. 03-16528 Filed 6-30-03; 8:45 am]

BILLING CODE 3410-11-M